DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held May 4 & 5, 2005, at the Great Northern Inn, 2 South 1 East, in Malta, Montana.

The May 4 meeting will begin at 1 p.m. with a 30-minute public comment period.

The meeting is scheduled to adjourn at approximately 6 p.m.

The May 5 meeting will begin at 8 a.m. with a 60-minute public comment period.

This meeting will adjourn at approximately 3 p.m.

SUPPLEMENTARY INFORMATION: This 15-member council advises the Secretary of the Interior on a variety of management issues associated with public land management in Montana. At these meetings the council will discuss/act upon:

The minutes of their proceeding meeting;

The sage grouse management plan;

Tour sage grouse habitat;

Cultural resource management;

The Bowdoin Oil and Gas Environmental Assessment;

The Montana Challenge (the economic contribution of public lands); and community collaborative planning.

All meetings are open to the public. The public may present written comments to the RAC. Each formal RAC meeting will also have time allocated for hearing public comments. Depending on the number of persons wishing to comment and time available, the time for individual oral comments may be limited.

FOR FURTHER INFORMATION CONTACT: June Bailey, Lewistown Field Manager, Lewistown Field Office, P.O. Box 1160, Lewistown, Montana 59457 or at (406) 538-1900.

Dated: April 19, 2005.
June Bailey,
Lewistown Field Manager.

[FR Doc. 05-8177 Filed 4-21-05; 8:45 am]

BILLING CODE 4310-88-M